DEPARTMENT OF TRANSPORTATION

Federal Aviation Administration

14 CFR Part 39

[Docket No. FAA-2005-21748; Directorate Identifier 2005-NM-071-AD; Amendment 39-15044; AD 2007-10-03]

RIN 2120-AA64

Airworthiness Directives; Boeing Model 767-200 and -300 Series Airplanes

AGENCY: Federal Aviation Administration (FAA), Department of Transportation (DOT).

ACTION: Final rule.

SUMMARY: The FAA is adopting a new airworthiness directive (AD) for certain Boeing Model 767-200 and -300 series airplanes. For certain airplanes, this AD requires repetitive inspections for discrepancies of the tube assemblies and insulation of the metered fire extinguisher system and the bleed air duct couplings of the auxiliary power unit (APU) located in the aft cargo compartment, and corrective actions if necessary. For certain other airplanes, this AD requires a one-time inspection for sufficient clearance between the fire extinguishing tube and the APU bleed air duct in the aft cargo compartment, and modification if necessary. This AD also requires an inspection for signs of chafing and to verify sufficient clearance between the fire extinguisher system and the bleed air duct couplings of the APU. This AD results from one report indicating that an operator found a hole in the discharge tube assembly for the metered fire extinguishing system; and another report indicating that an operator found chafing of the fire extinguishing tube against the APU duct that resulted in a crack in the tube. We are issuing this AD to prevent fire extinguishing agent from leaking out of the tube assembly in the aft cargo compartment which, in the event of a fire in the aft cargo compartment, could result in an insufficient concentration of fire extinguishing agent, and consequent inability of the fire extinguishing system to suppress the fire.

DATES: This AD becomes effective June 13, 2007.

The Director of the Federal Register approved the incorporation by reference of certain publications listed in the AD as of June 13, 2007.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207, for service information identified in this AD.

FOR FURTHER INFORMATION CONTACT: Marcia Smith, Aerospace Engineer, Cabin Safety and Environmental Systems Branch, ANM-150S, FAA, Seattle Aircraft Certification Office, 1601 Lind Avenue, SW., Renton, Washington 98057-3356; telephone (425) 917-6484; fax (425) 917-6590.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (NPRM) to amend 14 CFR part 39 to include an AD that would apply to certain Boeing Model 767-200 and -300 series airplanes. That supplemental NPRM was published in the Federal Register on June 7, 2006 (71 FR 32873). For certain airplanes, that supplemental NPRM proposed to require repetitive inspections for discrepancies of the tube assemblies and insulation of the metered fire extinguisher system and the bleed air duct couplings of the auxiliary power unit (APU) located in the aft cargo compartment; and corrective actions if necessary. For certain other airplanes, that supplemental NPRM proposed to require a one-time inspection for sufficient clearance between the fire extinguishing tube and the APU bleed air duct in the aft cargo compartment, and modification if necessary. That supplemental NPRM also proposed to require an inspection for signs of chafing and to verify sufficient clearance between the fire extinguisher system and the bleed air duct couplings of the APU.

Comments

We provided the public the opportunity to participate in the development of this AD. We have considered the comments received.

Request To Refer to Latest Revision of Service Bulletin

Boeing, the Air Transport Association (ATA), on behalf of American Airlines, and Japan Airlines ask that we refer to Boeing Service Bulletin 767-26A0130, Revision 2, dated October 31, 2006, in the final rule. We referred to Revision 1 of the service bulletin dated December 15, 2005, as the appropriate source of service information for doing certain actions specified in the supplemental NPRM. Japan Airlines states that Revision 1 includes incorrect requirements, and asks that Revision 2 be included in the final rule to correct the specified requirements. Japan Airlines adds that if the final rule is issued before issuance of Revision 2 of the service bulletin, the mistakes (included in Japan Airlines comments) should be corrected in the final rule. Boeing states that inclusion of Revision 2 will avoid issuance of a future supplemental NPRM. American Airlines indicates that Boeing provided it with information acknowledging that Revision 1 would be revised and released in the second quarter of 2006. American Airlines recommends that Revision 2 refer to the APU duct couplings only, not both the APU duct and the APU duct couplings.

We agree to refer to Revision 2 of the service bulletin in paragraph (f)(1) of the AD. Revision 2 does the following:

• Corrects certain station numbers.

• Adds clarification procedures for moving the fire extinguisher tube, and clarifies the inspection and repair of the fire extinguisher tube.

• Clarifies certain procedures specified in Figures 3 through 12, 15, and 16.

• Adds Figures 19 and 20 to clarify clamp removal and installation.

• Adds manpower requirements for Figures 19 and 20.

Revision 2 also refers to the APU duct couplings instead of both the APU duct and the APU duct couplings in certain sections of the Accomplishment Instructions. We have revised the AD to refer to Revision 2 of the service bulletin as the appropriate source of service information for doing certain actions. We have also revised paragraph (g) of this AD to add credit for actions done before the effective date of this AD in accordance with Boeing Alert Service Bulletin 767-26A0130, Revision 1, dated December 15, 2005. We acknowledge that there were errors in certain procedures specified in Revision 1, but those errors did not prevent accomplishing the inspections and any applicable corrective actions in a manner that would address the identified unsafe condition.

Request to Change Note 1

The ATA, on behalf of its member Delta Airlines, asks that Note 1 of the supplemental NPRM be changed to omit the revision level of Boeing Service Bulletin 767-26-0118, Revision 2, dated December 21, 2004, so it matches the reference to Boeing Alert Service Bulletin 767-26A0123.

We partially agree with the request. In Note 1 of the supplemental NPRM Boeing Alert Service Bulletin 767-26A0123, without a date or revision level, referred to Boeing Service Bulletin 767-26-0118, Revision 2, dated December 21, 2004, as the appropriate source of service information for accomplishing the modification of the fire extinguishing tube assembly. Since the AD must specify a revision level and date in the requirements, in lieu of removing the revision level and date for Boeing Service Bulletin 767-26-0118, we have removed Note 1 and added a new paragraph (f)(2)(ii) to the AD. Paragraph (f)(2)(ii) requires accomplishing the modification of the fire extinguishing tube assembly in accordance with Boeing Service Bulletin 767-26-0118, Revision 2, dated December 21, 2004. We have also added a new paragraph (h) to this AD (and re-identified subsequent paragraphs) to include credit for previously accomplishing the actions specified in Boeing Service Bulletin 767-26-0118, dated June 20, 2002, or Revision 1, dated October 3, 2002.

Clarification Made to This AD

We have changed paragraph (f)(1) of this AD to clarify the station numbers for the fire extinguishing tube assemblies. Paragraph (f)(1) of the supplemental NPRM proposed to require performing detailed and general visual inspections for discrepancies of the fire extinguishing tube assemblies between STA 1197 and STA 1340. Those station numbers were incorrectly specified in the Summary section of Revision 1 of the service bulletin. However, paragraph (f)(1) specifies doing the actions in accordance with the Accomplishment Instructions of the service bulletin, and the correct station numbers (STA 1140 and STA 1340) are specified in the Accomplishment Instructions of both Revisions 1 and 2 of the referenced service bulletin. We inadvertently specified STA 1197 in paragraph (f)(1), and we have corrected that error accordingly.

Conclusion

We have carefully reviewed the available data, including the comments received, and determined that air safety and the public interest require adopting the AD with the changes described previously. These changes will neither increase the economic burden on any operator nor increase the scope of the AD.

Costs of Compliance

There are about 749 airplanes of the affected design in the worldwide fleet. The following table provides the estimated costs for U.S. operators to comply with this AD.

Estimated Costs
Action | Work hours | Average labor rate per hour | Parts | Cost per airplane | Number of U.S.- registered airplanes | Fleet cost
Inspection in Service Bulletin 767-26A0123 | 1 | $80 | None | $80 | 292 | $23,360
Inspection in Service Bulletin 767-26A0130, Revision 2 | 5 | 80 | None | 400 | 292 | 116,800

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-10-03 Boeing: Amendment 39-15044. Docket No. FAA-2005-21748; Directorate Identifier 2005-NM-071-AD.

Effective Date

(a) This AD becomes effective June 13, 2007.

Affected ADs

(b) None.

Applicability

(c) This AD applies to Boeing Model 767-200 and -300 series airplanes; certificated in any category; with a metered fire extinguisher system in the aft cargo compartment.

Unsafe Condition

(d) This AD was prompted by one report indicating that an operator found a hole in the discharge tube assembly for the metered fire extinguishing system; and another report indicating that an operator found chafing of the fire extinguishing tube against the auxiliary power unit (APU) duct that resulted in a crack in the tube. We are issuing this AD to prevent fire extinguishing agent from leaking out of the tube assembly in the aft cargo compartment which, in the event of a fire in the aft cargo compartment, could result in an insufficient concentration of fire extinguishing agent, and consequent inability of the fire extinguishing system to suppress the fire.

Compliance

(e) You are responsible for having the actions required by this AD performed within the compliance times specified, unless the actions have already been done.

Inspections and Corrective Actions

(f) Within 24 months or 8,000 flight hours after the effective date of this AD, whichever is first: Accomplish the actions required by paragraphs (f)(1) and (f)(2) of this AD, as applicable.

(1) For airplanes identified in Boeing Service Bulletin 767-26A0130, Revision 2, dated October 31, 2006: Perform detailed and general visual inspections for discrepancies of the fire extinguishing tube assemblies between station (STA) 1140 and STA 1340, and the insulation of the metered fire extinguisher system and the bleed air duct couplings of the APU located in the aft cargo compartment, and any applicable corrective actions, by doing all the applicable actions specified in the Accomplishment Instructions of Boeing Service Bulletin 767-26A0130, Revision 2, dated October 31, 2006. Do all applicable corrective actions before further flight in accordance with the service bulletin. Repeat the inspections thereafter at intervals not to exceed 24 months or 8,000 flight hours, whichever is first. Installation of the tube assembly in the correct location, in accordance with the service bulletin, terminates the repetitive inspections for that assembly only.

(2) For airplanes identified in Boeing Alert Service Bulletin 767-26A0123, dated August 22, 2002: Accomplish the actions required by paragraphs (f)(2)(i) and (f)(2)(ii) of this AD, as applicable.

(i) Perform a general visual inspection for sufficient clearance between the fire extinguishing tube and the APU duct on the left sidewall from STA 1355 through 1365 inclusive, and do all applicable modifications, by doing all the actions specified in the Accomplishment Instructions of Boeing Alert Service Bulletin 767-26A0123, dated August 22, 2002. Do all applicable modifications before further flight.

(ii) If there is insufficient clearance between the fire extinguishing tube and the APU duct: Before further flight, accomplish the modification of the fire extinguishing tube assembly by doing all the actions specified in the Accomplishment Instructions of Boeing Service Bulletin 767-26-0118, Revision 2, dated December 21, 2004. Accomplishing the modification in this paragraph terminates the repetitive inspections for that assembly only.

Credit for Actions Accomplished Previously

(g) Accomplishing the inspections and corrective actions required by paragraph (f)(1) of this AD before the effective date of this AD, in accordance with Boeing Alert Service Bulletin 767-26A0130, dated December 2, 2004, or Revision 1, dated December 15, 2005; is considered acceptable for compliance with the corresponding actions in paragraph (f)(1) of this AD.

(h) Accomplishing the actions required by paragraph (f)(2)(ii) of this AD before the effective date of this AD, in accordance with Boeing Service Bulletin 767-26-0118, dated June 20, 2002, or Revision 1, dated October 3, 2002; is considered acceptable for compliance with the corresponding actions in paragraph (f)(2)(ii) of this AD for accomplishing the modification of the fire extinguishing tube assembly.

Alternative Methods of Compliance (AMOCs)

(i)(1) The Manager, Seattle Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(j) You must use Boeing Service Bulletin 767-26A0130, Revision 2, dated October 31, 2006; Boeing Alert Service Bulletin 767-26A0123, dated August 22, 2002; and Boeing Service Bulletin 767-26-0118, Revision 2, dated December 21, 2004; as applicable; to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on April 30, 2007.
Ali Bahrami,
Manager, Transport Airplane Directorate, Aircraft Certification Service.

[FR Doc. E7-8767 Filed 5-8-07; 8:45 am]

BILLING CODE 4910-13-P